DEPARTMENT OF TRANSPORTATION

Surface Transportation Board

[STB Finance Docket No. 35252]

Regional Transportation District—Acquisition Exemption—Union Pacific Railroad Company in Adams, Boulder, Broomfield, and Weld, CO

Regional Transportation District (RTD),¹ a noncarrier, has filed a verified notice of exemption under 49 CFR 1150.31 to acquire from Union Pacific Railroad Company (UP) approximately 32.97 miles of rail line, known as the Boulder Industrial Lead, extending from milepost 0.2 (north of Denver) to approximately milepost 33.17, including the Lakeside Spur (Boulder County), in the Counties of Adams, Boulder, Broomfield, and Weld, CO. According to RTD, UP will retain an exclusive freight easement for the trackage on the Boulder Industrial Lead, and UP will retain the exclusive right to operate freight service on the entire line.

¹ RTD is a political subdivision of the State of Colorado.

RTD states that the transaction was agreed upon on June 25, 2009. The earliest this transaction may be consummated is September 23, 2009, the effective date of the exemption (30 days after the exemption is filed). According to RTD, it will acquire no right or obligation to provide freight rail service on the Boulder Industrial Lead, and it is acquiring the property for the purpose of providing intrastate passenger commuter rail operations. RTD certifies that its projected annual revenues as a result of this transaction will not result in the creation of a Class II or Class I rail carrier.

If the notice contains false or misleading information, the exemption is void ab initio.² Petitions to revoke the exemption under 49 U.S.C. 10502(d) may be filed at any time. The filing of a petition to revoke does not automatically stay the transaction. Petitions for stay must be filed no later than September 16, 2009 (at least 7 days before the exemption becomes effective).

² A motion to dismiss has been filed in this proceeding. The motion will be addressed in a subsequent Board decision.

An original and 10 copies of all pleadings, referring to STB Finance Docket No. 35252, must be filed with the Surface Transportation Board, 395 E Street, SW., Washington, DC 20423-0001. In addition, a copy of each pleading must be served on Charles A. Spitulnik, 1001 Connecticut Avenue, NW., Suite 800, Washington, DC 20036.

Board decisions and notices are available on our Web site at http://www.stb.dot.gov.

Decided: September 3, 2009.
By the Board, Rachel D. Campbell, Director, Office of Proceedings.
Jeffrey Herzig,
Clearance Clerk.

[FR Doc. E9-21682 Filed 9-8-09; 8:45 am]

BILLING CODE 4915-01-P